DEPARTMENT OF JUSTICE

Notice of Lodging of Consent Decree Under the Comprehensive Environmental Response Compensation and Liability Act

Pursuant to 28 CFR 507 notice is hereby given that on March 6, 2003, a proposed Consent Decree in United States v. Archer Daniels, et al. Civil Action No. 03-CV-1593WJR was lodged with the United States District Court for the Central District of California.

In this action, under sections 106 and 107 of CERCLA, 42 U.S.C. 9606 and 9607, the United States sought injunctive relief and recovery of response costs to remedy conditions in connection with the release or threatened release of hazardous substances into the environment at the Waste Disposal, Inc. Superfund Site in Santa Fe Springs, California (hereinafter referred to as the “Site”).

The defendants in this action are as follows: Archer Daniels Midland Company; Atlantic Oil Company; Atlantic Richfield Company; Chevron USA, Inc.; Conoco, Inc.; Conopco, Inc.; Dilo, Inc.; Exxon Mobil Corporation; Ferro Corporation; FMC Technologies, Inc. (successor in interest to FMC Corporation); Global Santa Fe Corporation; Halliburton Energy Services, Inc.; McDonnell Douglas Corporation; Shell Oil Company; Texaco, Inc.; Union Pacific Railroad Company; and Union Oil Company of California (Hereinafter referred to collectively as “the Settlors”)

Under this settlement, the Settlors, which arranged for the disposal of hazardous substances at the Site, have agreed to perform the remedy chosen by EPA to clean up the Site, and pay $1,250,000 of the past response costs of the United States, and pay all of the future response costs of the United States to be incurred at the Site.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Archer Daniels, et al., D.J. Ref. 90-11-2-1000. At the Consent Decree includes a covenant not to sue under section 7003 of RCRA, 42 U.S.C. 6973(d), commenters may request an opportunity for a public meeting in the affected area, in accordance with section 7003(d) of RCRA, 42 U.S.C. 6973(d).

The Consent Decree may be examined at U.S. EPA Region IV, 75 Hawthorne Street, San Francisco, CA 94107. During the public comment period, the Consent Decree, may also be examined on the following Department of Justice Web site, http://www.usdoj.gov/enrd/open.html. A copy of the Consent Decree may also be obtained by mail from the Consent Decree Library, PO Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $112.75 (25 cents per page reproduction cost) payable to the U.S. Treasury. In requesting a copy exclusive of exhibits and defendants' signatures, please enclose a check in the amount of $28.50 (25 cents per page reproduction cost) payable to the U.S. Treasury.

W. Benjamin Fisherow,
Deputy Chief, Environmental Enforcement Section.

[FR Doc. 03-7294 Filed 3-26-03; 8:45 am]

BILLING CODE 4410-15-M